DEPARTMENT OF AGRICULTURE

Agricultural Marketing Service

7 CFR Part 956

[Docket No. AMS-FV-13-0024; FV13-956-1 CR]

Sweet Onions Grown in the Walla Walla Valley of Southeast Washington and Northeast Oregon; Continuance Referendum

AGENCY: Agricultural Marketing Service, USDA.

ACTION: Referendum order.

SUMMARY: This document directs that a referendum be conducted among eligible producers of sweet onions in the Walla Walla Valley of southeast Washington and northeast Oregon, to determine whether they favor continuance of the marketing order regulating the handling of sweet onions produced in the production area.

DATES: The referendum will be conducted from September 14 through October 4, 2013. To vote in this referendum, producers must have produced Walla Walla sweet onions within the designated production area in Washington and Oregon during the period January 1 through December 31, 2012.

ADDRESSES: Copies of the marketing order may be obtained from the referendum agents at 805 SW. Broadway, Suite 930, Portland, OR 97205, or the Office of the Docket Clerk, Marketing Order and Agreement Division, Fruit and Vegetable Program, AMS, USDA, 1400 Independence Avenue SW., STOP 0237, Washington, DC 20250-0237; Fax: (202) 720-8938; or Internet: www.regulations.gov.

FOR FURTHER INFORMATION CONTACT: Manuel Michel, Marketing Specialist, or Gary D. Olson, Regional Director, Northwest Marketing Field Office, Marketing Order and Agreement Division, Fruit and Vegetable Program, AMS, USDA, 805 SW. Broadway, Suite 930, Portland, OR 97205; Telephone: (503) 326-2724, Fax: (503) 326-7440, or Email: Manuel.Michel@usda.gov or GaryD.Olson@usda.gov.

SUPPLEMENTARY INFORMATION: Pursuant to Marketing Agreement and Order No. 956, both as amended (7 CFR Part 956), hereinafter referred to as the “order,” and the applicable provisions of the Agricultural Marketing Agreement Act of 1937, as amended (7 U.S.C. 601-674), hereinafter referred to as the “Act,” it is hereby directed that a referendum be conducted to ascertain whether continuance of the order is favored by the producers. The referendum shall be conducted from September 14 through October 4, 2013, among Walla Walla sweet onion producers in the production area. Only Walla Walla sweet onion producers that were engaged in the production of Walla Walla sweet onions in Washington and Oregon, during the period of January 1 through December 31, 2012, may participate in the continuance referendum.

USDA has determined that continuance referenda are an effective means for determining whether producers favor the continuation of marketing order programs. USDA would consider termination of the order if a majority of the producers voting in the referendum and producers of a majority of the volume of Walla Walla sweet onions represented in the referendum do not favor continuance. In evaluating the merits of continuance versus termination, USDA will not exclusively consider the results of the continuance referendum. USDA will also consider all other relevant information concerning the operation of the order and the relative benefits and disadvantages to producers, handlers, and consumers in order to determine whether continued operation of the order would tend to effectuate the declared policy of the Act.

In accordance with the Paperwork Reduction Act of 1995 (44 U.S.C. 3501-3520), the ballot materials to be used in the referendum herein ordered have been submitted to and approved by the Office of Management and Budget (OMB) and have been assigned OMB No. 0581-0178, Vegetable and Specialty Crop Marketing Orders. It has been estimated that it will take an average of 20 minutes for each of the approximately 21 producers of Walla Walla sweet onions in Washington and Oregon to cast a ballot. Participation is voluntary. Ballots postmarked after October 4, 2013, will not be included in the vote tabulation.

Manuel Michel and Gary D. Olson of the Northwest Marketing Field Office, Fruit and Vegetable Program, AMS, USDA, are hereby designated as the referendum agents of the Secretary of Agriculture to conduct this referendum. The procedure applicable to the referendum shall be the “Procedure for the Conduct of Referenda in Connection With Marketing Orders for Fruits, Vegetables, and Nuts Pursuant to the Agricultural Marketing Agreement Act of 1937, as Amended” (7 CFR 900.400-900.407).

Ballots will be mailed to all producers of record and may also be obtained from the referendum agents, or from their appointees.

List of Subjects in 7 CFR Part 956

Marketing agreements, Onions, Reporting and recordkeeping requirements.

Authority: 7 U.S.C. 601-674.

Dated: June 14, 2013.
Rex A. Barnes,
Associate Administrator, Agricultural Marketing Service.

[FR Doc. 2013-14709 Filed 6-19-13; 8:45 am]

BILLING CODE 3410-02-P